DEPARTMENT OF THE INTERIOR

Fish and Wildlife Service

50 CFR Part 17

[FWS-R9-IA-2008-0075; 96100-1671-0000-B6; 1018-AT56]

Endangered and Threatened Wildlife and Plants; Petition To Reclassify the Argentine Population of the Broad-Snouted Caiman From Endangered to Threatened

AGENCY: Fish and Wildlife Service, Interior.

ACTION: Notice of 90-day petition finding and initiation of status review.

SUMMARY: We, the U.S. Fish and Wildlife Service (Service), announce our 90-day finding on a petition to reclassify the Argentine population of the broad-snouted caiman (Caiman latirostris) from endangered to threatened under the Endangered Species Act of 1973, as amended (Act). We find that the petition presents substantial scientific and commercial information indicating that the petitioned action of reclassifying the broad-snouted caiman in Argentina from endangered to threatened status under the Act may be warranted. Therefore, we are initiating a status review of the broad-snouted caiman to determine if reclassification of the population in Argentina, as petitioned, is warranted under the Act. To ensure that the status review is comprehensive, we are requesting submission of any new information on the broad-snouted caiman since its original listing as an endangered species in 1976. At the conclusion of our status review, we will make the requisite recommendation under section 4(c)(2)(B) of the Act and issue a 12-month finding on the petition, as provided in section 4(b)(3)(B) of the Act.

DATES: To be considered in the 12-month finding on this petition, we will accept comments and information from all interested parties until September 15, 2008.

ADDRESSES: You may submit information, materials, and comments by one of the following methods:

• Federal eRulemaking Portal: http://www.regulations.gov. Follow the instructions for submitting comments.

• U.S. mail or hand-delivery: Public Comments Processing, Attn: [FWS-R9-IA-2008-0075]; Division of Policy and Directives Management; U.S. Fish and Wildlife Service; 4401 N. Fairfax Drive; Suite 222; Arlington, VA 22203.

We will not accept e-mail or faxes. We will post all comments on http://www.regulations.gov. This generally means that we will post any personal information you provide us (see the Public Comments section below for more information).

FOR FURTHER INFORMATION CONTACT: Marie T. Maltese, Division of Scientific Authority, U.S. Fish and Wildlife Service, 4401 N. Fairfax Drive, Room 110, Arlington, VA 22203; telephone: 703-358-1708; facsimile: 703-358-2276; e-mail: ScientificAuthority@fws.gov. Persons who use a telecommunications device for the deaf (TDD) may call the Federal Information Relay Service (FIRS) at 800-877-8339.

SUPPLEMENTARY INFORMATION:

Public Information Solicited

We intend that any final action resulting from this status review will be as accurate and effective as possible based on the best available scientific and commercial information. Therefore, we solicit information, comments, or suggestions on the broad-snouted caiman from the public, concerned government agencies, the scientific community, industry, or any other interested party. We are opening a 90-day public comment period to allow all interested parties an opportunity to provide information on the status of the Argentine population of the broad-snouted caiman, as well as the status of the species throughout its range, including:

(1) Information on taxonomy, distribution, habitat selection and use, food habits, population density and trends, habitat trends, and effects of management on broad-snouted caimans in the wild;

(2) Information on broad-snouted caiman ranching programs in Argentina and throughout the caiman's range; including efficacy of programs, origin of parental stock, stock supplementation for any purpose, including genetic purposes, growth rates, birth and mortality rates in captivity, location of ranches in comparison to wild populations, effects of ranching on the species' natural habitats and wild populations, wastewater management, and any other factors occurring from ranching activities that might negatively affect or reduce the species' natural habitat or range;

(3) Information on the adequacy of existing regulatory mechanisms, trends in domestic and international trade, illicit hunting of wild broad-snouted caimans, illegal trade and enforcement efforts and current and/or future solutions to poaching and illegal trade, products resulting from caiman ranching programs, current identification systems for products including tagging and marking, and use of the species by the scientific community;

(4) Information on the effects of other potential threat factors, including contaminants, changes in the distribution and abundance of wild populations, disease outbreaks within ranching programs, large mortality events, or negative effects resulting from the presence of invasive species;

(5) Information on management programs for broad-snouted caiman conservation in the wild, including private or government-funded conservation programs that benefit broad-snouted caimans; and

(6) Information relevant to the possibility that the Argentine population of the broad-snouted caiman may qualify as a distinct population segment.

We will base our finding on a review of the best scientific and commercial information available, including all information received during the public comment period.

You may submit your comments and materials by one of the methods listed in the ADDRESSES section. We will not accept comments you send by e-mail or fax.

Before including your address, phone number, e-mail address, or other personal identifying information in your comment, you should be aware that we will post your entire comment—including your personal identifying information—on http://www.regulations.gov. While you can ask us in your comment to withhold your personal identifying information from public review, we cannot guarantee that we will be able to do so.

Comments and materials we receive, as well as supporting documentation we used in preparing this 90-day finding, will be available for public inspection on http://www.regulations.gov, or by appointment, during normal business hours, at the U.S. Fish and Wildlife Service, Division of Scientific Authority (see previous section: FOR FURTHER INFORMATION CONTACT).

Background

We received a petition from the Government of Argentina dated November 5, 2007, requesting that we reclassify the broad-snouted caiman (Caiman latirostris) in Argentina from endangered to threatened. The petition contained detailed information about the natural history and biology of the broad-snouted caiman, including the species' current status and distribution.

The broad-snouted caiman is a medium-sized crocodilian reaching no more than 2 meters (6.6 feet) in total length at maturity. Species distribution includes Argentina, Bolivia, Brazil, Paraguay, and northern Uruguay. The species is found mostly in freshwater marsh, swamp, and mangrove habitats. Recent surveys in Argentina indicate that much of the original broad-snouted caiman's habitat remains, and healthy wild populations have been located. Experimental caiman ranching programs have proven successful, indicating that the establishment of ranching programs could yield commercial-scale results if properly managed.

On May 22, 1975, the Fund for Animals, Inc. (Fund) submitted a request to the Service to list as endangered species 216 taxa of animals and plants that were listed in Appendix I of the Convention on International Trade in Endangered Species of Wild Fauna and Flora (CITES, or Convention) and that did not already appear on the U.S. Lists of Endangered Wildlife and Plants (Lists). The Fund contended that signature and ratification of CITES by the United States was an acknowledgment of the endangered status of these species and that they therefore should appear on the Lists pursuant to the Act (40 FR 44329).

CITES is an international treaty for the conservation of wild fauna and flora subject to trade; it was drafted in 1973 and had been ratified by enough nations by 1975 to enter into force. The United States ratified the treaty on September 13, 1973 (41 FR 24062; June 14, 1976). Accession to CITES is open to all nations that wish to reduce the impact of international trade on wildlife and plants. CITES includes three Appendices that list species meeting specific criteria. Depending on the Appendix in which they are listed, species are subject to permitting requirements intended to ensure that international trade in them is legal and does not threaten their survival. Appendix-I species are those that are threatened with extinction and which are, or may be, affected by trade. Commercial trade in Appendix-I species is strictly prohibited. On July 1, 1975, the date the Convention was entered into force, Appendix I of the Convention included over 200 species, including the broad-snouted caiman.

As a result of the Fund's listing request, the Service published a proposed rule on September 26, 1975: “Proposed Endangered Status for 216 Species Appearing on Convention on International Trade” (40 FR 44329). The proposed rule requested public comments regarding amendment of the Lists through the addition of species included in CITES Appendix I. On June 14, 1976, a final rule entitled “Endangered Status for 159 Taxa of Animals” was published in the Federal Register (41 FR 24062). These species included some, but not all, of the Appendix-I species that had been listed under CITES and whose listing under the Act had been requested by the Fund. In 1976, the Convention had only been ratified for one year, and ratification by additional member nations was necessary for CITES to become a stronger international trade measure. Until the number of Parties to CITES increased, however, the commercial importance of the species that were determined to be endangered in the listing rule and the inadequacy of existing regulatory mechanisms to control international trade continued to be factors of major concern. It was believed that the listing action was imperative, to provide an interim regulatory mechanism to restrict U.S. trade in listed species and, ultimately, as a supportive measure to further address the conservation purposes of CITES.

The broad-snouted caiman is currently listed in Appendix I of CITES, range-wide except in Argentina (http://www.cites.org). The Argentine population was downlisted to Appendix II in 1997, with support from the United States. In addition, under CITES Resolution 11.12: Universal Tagging System for the Identification of Crocodilian Skins, all crocodilian skins must be affixed with a non-reusable tag from the country of origin prior to entering international trade (http://www.cites.org). Tagging crocodilian skins allows individual countries to track quotas, prevent illegal trade, and ensure that annual take is not detrimental to the survival of the species. Through a system of permits, the CITES Appendix-II listing allows international trade in Argentine broad-snouted caiman parts and products throughout the world, with one exception: Trade in Argentine broad-snouted caiman specimens is prohibited in the United States because the species is listed as endangered (41 FR 24062; June 14, 1976) under section 4 of the Act (16 U.S.C. 1531 et seq.).

With this petition, the Government of Argentina requests reclassification of the species from endangered to threatened in their country only, because populations are healthy, habitat remains plentiful, and caiman ranching programs have proven successful. Reclassification of the species may allow the establishment of trade in ranched specimens of broad-snouted caimans from Argentina to the United States and re-export from other CITES Parties.

Finding

On the basis of the information provided in the petition, we have determined that the petition presents substantial scientific and commercial information that reclassifying the broad-snouted caiman from endangered to threatened in Argentina may be warranted. Therefore, we are initiating a status review to determine if reclassification of the species is warranted. To ensure that the status review is comprehensive, we are soliciting scientific and commercial information regarding this species. Under section 4(b)(3)(B) of the Act, we are required to make a finding as to whether reclassification of the broad-snouted caiman is warranted within 12-months of receipt of the petition.

Author

The primary author of this document is Marie T. Maltese of the Division of Scientific Authority, U.S. Fish and Wildlife Service (see ADDRESSES section).

Authority: The authority for this action is the Endangered Species Act of 1973 as amended (16 U.S.C. 1531 et seq.).

Dated: June 4, 2008.
Kenneth Stansell,
Acting Director, U.S. Fish and Wildlife Service.

[FR Doc. E8-13162 Filed 6-13-08; 8:45 am]

BILLING CODE 4310-55-P